DEPARTMENT OF LABOR

Occupational Safety and Health Administration

National Advisory Committee on Occupational Safety and Health; Notice of Meeting

Notice is hereby given of the date and location of the next meeting of the National Advisory Committee on Occupational Safety and Health (NACOSH), established under section 7(a) of the Occupational Safety and Health Act of 1970 (29 U.S.C. 656) to advise the Secretary of Labor and the Secretary of Health and Human Services on matters relating to the administration of the Act. NACOSH will hold a meeting on September 13-14, 2000, in Room N 3437 A-C of the Department of Labor Building located at 200 Constitution Avenue NW, Washington, DC. The meeting is open to the public and will begin at 9 a.m. lasting until approximately 4 p.m. each day.

At its last meeting, June 6, the committee decided to undertake a review of various aspects of training in relation to occupational safety and health. Subjects on the agenda for this meeting will include, in addition to overviews of current activities of the Occupational Safety and Health Administration (OSHA) and the National Institute for Occupational Safety and Health (NIOSH): the training of compliance safety and health officers, a description of OSHA's Training Institute and OSHA's training grant program, and a report from NIOSH on the status of its training activities and its Education Resource Centers (ERCs). There will also be a report on an October 1999 Training Conference, a discussion of NIOSH training research activities and a report from OSHA's task force on outreach activities.

Written data, views or comments for consideration by the committee may be submitted, preferably with 20 copies, to Joanne Goodell at the address provided below. Any such submissions received prior to the meeting will be provided to the members of the Committee and will be included in the record of the meeting. Because of the need to cover a wide variety of subjects in a short period of time, there is usually insufficient time on the agenda for members of the public to address the committee orally. However, any such requests will be considered by the Chair who will determine whether or not time permits. Any request to make an oral presentation should state the amount of time desired, the capacity in which the person would appear, and a brief outline of the content of the presentation. Individuals with disabilities who need special accommodations should contact Veneta Chatmon (phone: 202-693-1912; FAX: 202-693-1634) one week before the meeting.

An official record of the meeting will be available for public inspection in the OSHA Technical Data Center (TDC) located in Room N2625 of the Department of Labor Building (202-693-2350). For additional information contact: Joanne Goodell, Occupational Safety and Health Administration (OSHA); Room N-3641, 200 Constitution Avenue NW, Washington, DC 20210, (phone: 202-693-2400; FAX: 202-693-1641; e-mail joanne.goodell@osha.gov); or check the National Advisory Committee on Occupational Safety and Health information pages located at www.osha.gov.

Signed at Washington, DC, this 9th day of August, 2000.
Charles N. Jeffress,
Assistant Secretary of Labor for Occupational Safety and Health.

[FR Doc. 00-20545 Filed 8-11-00; 8:45 am]

BILLING CODE 4510-26-M